DEPARTMENT OF THE INTERIOR

National Park Service

[NPS-WASO-NRNHL-DTS#-30354; PPWOCRADI0, PCU00RP14.R50000]

National Register of Historic Places; Notification of Pending Nominations and Related Actions

AGENCY: National Park Service, Interior.

ACTION: Notice.

SUMMARY: The National Park Service is soliciting electronic comments on the significance of properties nominated before May 16, 2020, for listing or related actions in the National Register of Historic Places.

DATES: Comments should be submitted electronically by June 19, 2020.

ADDRESSES: Comments are encouraged to be submitted electronically to National_Register_Submissions@nps.gov with the subject line “Public Comment on property or proposed district name, (County) State.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before May 16, 2020. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Avery, Frank and Emma, House, 4203 North 44th St., Phoenix, SG100005297

DISTRICT OF COLUMBIA

District of Columbia

Tabard Inn, 1737-1739-1741 N St. NW, Washington, SG100005295

Washington Animal Rescue League Animal Shelter, 71 O St. NW, Washington, SG100005296

Washington Yacht Club, 1500 M St. SE, Washington, SG100005305

GEORGIA

Wilkes County

Cherry Grove Baptist Church Schoolhouse, 1878 Danburg Rd., Washington vicinity, SG100005300

IOWA

Linn County

Shores-Mueller Company, (Commercial & Industrial Development of Cedar Rapids MPS) (Industrial Development of Cedar Rapids, Iowa MPS (AD)), 700 16th St. NE, Cedar Rapids, MP100005298

Montgomery County

Red Oak High School, 308 East Corning St., Red Oak, SG100005294

Pottawattamie County

South 8th Street Historic District, Bounded by South 7th St., South 8th St., 1st Ave., 7th Ave., with segment along 2nd Ave., extending to South 10th St., Council Bluffs, SG100005299

KENTUCKY

Fayette County

Pensacola Park Historic District. 109-199 Rosemont Gdn., 105-175 Suburban Ct., 101-224 Lackawanna Rd., 101-166 Wabash Dr., 96-171 Goodrich Ave., 1700, 1800, 1900 blocks of Nicholasville Rd., 101-177, Penmoken Park, 1800 block Pensacola Dr., 1800 block Norfolk Dr., Lexington, SG100005303

LOUISIANA

Orleans Parish

Pontchartrain Park Historic District, Roughly bounded by France Rd., Dwyer Canal, Norfolk Southern RR, Campus Blvd., Emmitt W. Bashful Blvd., Press Dr., and Hayne Blvd., New Orleans, SG100005306

MASSACHUSETTS

Franklin County

Long Plain Cemetery, 19 Depot Rd., Leverett, SG100005304

Additional documentation has been received for the following resource:

DISTRICT OF COLUMBIA

District of Columbia

Central Public Library (Additional Documentation), 801 K St. NW, Washington, AD69000290

Authority: Section 60.13 of 36 CFR part 60.

Dated: May 18, 2020.
Sherry A. Frear,
Chief, National Register of Historic Places/National Historic Landmarks Program.

[FR Doc. 2020-12037 Filed 6-3-20; 8:45 am]

BILLING CODE 4312-52-P